NATIONAL SCIENCE FOUNDATION

Advisory Committee for Social, Behavioral, and Economic Sciences; Notice of Meeting

In accordance with the Federal Advisory Committee Act (Pub. L. 92-463, as amended), the National Science Foundation announces the following meeting:

Name: Advisory Committee for Social, Behavioral, and Economic Sciences (1171) Subcommittee for Human Subjects.

Date/Time: June 12, 2001, 8:30 a.m.-5 p.m. and June 13, 2001; 8:30 a.m.-1 p.m.

Place: National Science Foundation, Room 970, 4021 Wilson Boulevard, Arlington, VA.

Contact Person: Dr. Stuart Plattner, Division of Behavioral and Cognitive Sciences, NSF, Suite 995; 4201 Wilson Blvd., Arlington, VA 22230. Telephone: (703) 292-8740.

Minutes: May be obtained from the contact person listed above.

Purpose of Meeting: To provide advice and recommendations to the National Science Foundation on issues related to the use of human subjects in social and behavioral research.

Type of Meeting: Open (Members of the public who wish to attend should arrange access ahead of time with the contact person listed below).

Agenda: Discussions addressing the following topics:

Foreign Institutional Review Boards (IRBs)

Training (for principal investigators, research personnel, IRBs)

Consent (forms, signing, group/individual, students as research subjects)

Ethnography/oral history; “ethical proofreading”

Confidential/privacy

Secondary subjects/secondary data; linking data

Expanding the “exempt” category

Deception

Subpart “D” of the Common Rule

Research on the World Wide Web

Data archiving

Dated: May 8, 2001.
Susanne Bolton,
Committee Management Officer.

[FR Doc. 01-11921 Filed 5-10-01; 8:45 am]

BILLING CODE 7555-01-M